COMMISSION ON CIVIL RIGHTS

Sunshine Act; Notice of Meeting

AGENCY: U.S. Commission on Civil Rights.

Date and Time: Friday, September 8, 2006, 9 a.m.

Place: Hilton Hotel, 1001 Cass Street, Omaha, NE 68102.

Status: Briefing Agenda:

Commission Briefing: Deliberate Creation of Racially Identifiable School Districts.

• Introductory Remarks by Chairman.

• Speakers' Presentations.

• Questions by Commissioners and Staff Director.

FOR FURTHER INFORMATION CONTACT: Derek E. Horne, Office of the Staff Director (202) 376-7700.

David P. Blackwood,
General Counsel.

[FR Doc. 06-7389 Filed 8-29-06; 4:52 pm]

BILLING CODE 6335-01-M